DEPARTMENT OF AGRICULTURE

Agricultural Marketing Service

7 CFR Part 1135

[Docket No. AO-380-A18; DA-01-08-W]

Milk in the Western Marketing Area; Referendum Order and Extension of Time for Filing Comments; Determination of Representative Period and Designation of Referendum Agent

AGENCY: Agricultural Marketing Service, USDA.

ACTION: Referendum Order and extension of time for filing comments.

SUMMARY: This notice orders that a referendum be conducted to determine whether producers favor issuance of the order regulating the handling of milk in the Western marketing area, as amended in the tentative final decision issued by the Administrator on August 8, 2003, and published in the Federal Register on August 18, 2003 (68 FR 49375). Producer approval could not be determined by a polling of cooperatives. Additionally, this document extends the time for filing comments to the tentative final decision for the Western marketing area until April 1, 2004.

DATES: The referendum is to be completed on or before 30 days after publication in the Federal Register and comments on the Western order are now due on April 1, 2004.

ADDRESSES: Comments (six copies) should be filed with the Hearing Clerk, Room 1083-STOP 9200, 1400 Independence Avenue, SW., South Building, United States Department of Agriculture, Washington, DC 20250-9200.

FOR FURTHER INFORMATION CONTACT: Gino M. Tosi, Marketing Specialist, Order Formulation and Enforcement Branch, USDA/AMS/Dairy Programs, Room 2971—Stop 0231, 1400 Independence Avenue, SW., Washington, DC 20250-0231, (202) 690-1366, e-mail address: gino.tosi@usda.gov.

SUPPLEMENTARY INFORMATION: Prior documents in this proceeding:

Notice of Hearing: Issued February 26, 2002; published March 4, 2002 (67 FR 9622).

Tentative Final Decision: Issued on August 8, 2003; published August 18, 2003 (68 FR 49375).

On August 8, 2003, the Administrator issued a tentative final decision on proposed amendments to the Pacific Northwest and Western milk marketing orders. Comments on the tentative final decision were requested by October 17, 2003, and producer approval was to be determined through a polling of cooperatives. The polling of cooperatives was completed on October 6, 2003, for the Western milk marketing order and producer approval could not be ascertained.

Notice is hereby given that the time for filing comments to the Western milk marketing order as amended by the tentative final decision is hereby extended from October 17, 2003, to April 1, 2004, and that a referendum will be conducted to determine producer approval of the Western order as amended.

Several parties requested that the filing of comments on the Western order be extended indefinitely because producer approval could not be ascertained based on the polling of cooperatives that was held for the Western milk marketing order as amended by the tentative final decision. Requesters stated that submission of comments by the October 17, 2003, date would be premature.

Since a referendum is being conducted to determine producer approval of the Western order as amended, it is appropriate to delay comment submissions on the Western milk marketing order. Comments are now due on April 1, 2004. This extension of time for filing comments only applies to the Western order and comments on the tentative final decision amendments to the Pacific Northwest milk marketing order must be postmarked on or before October 17, 2003, as stated in the tentative final decision.

This notice is issued pursuant to the provisions of the Agricultural Marketing Agreement Act of 1937, as amended (7 U.S.C. 601-674), and the applicable rules of practice and procedure governing the formulation of marketing agreements and marketing orders (7 CFR part 900).

Referendum Order To Determine Producer Approval; Determination of Representative Period; and Designation of Referendum Agent

It is hereby directed that a referendum be conducted to determine whether the issuance of the order regulating the handling of milk in the Western marketing area, as amended by the tentative final decision issued on August 8, 2003, and published on August 18, 2003 (68 FR 49375), is approved by at least two-thirds of the producers, or by producers that represent at least two-thirds of the total milk produced during the representative period.

The month of April 2002 is hereby determined to be the representative period for the conduct of such referendum.

James R. Daugherty is hereby designated agent of the Secretary to conduct such referendum in accordance with the procedures for the conduct of referenda (7 CFR 900.300 et seq.).

Such referendum shall be completed on or before 30 days from the publication of this referendum order.

List of Subjects in 7 CFR Part 1135

Milk marketing orders.

Authority: 7 U.S.C. 601-674.

Dated: October 27, 2003.
A.J. Yates,
Administrator, Agricultural Marketing Service.

[FR Doc. 03-27414 Filed 10-30-03; 8:45 am]

BILLING CODE 3410-02-P